NUCLEAR REGULATORY COMMISSION

10 CFR Part 2

RIN 3150-AG44

Licensing Proceedings for the Receipt of High-Level Radioactive Waste at a Geologic Repository; Licensing Support Network, Design Standards for Participating Websites; Correction

AGENCY: Nuclear Regulatory Commission.

ACTION: Final rule; correction.

SUMMARY: This document corrects a rulemaking appearing in the Federal Register on May 31, 2001 (66 FR 29453). This document is necessary to correct the omission of a word.

FOR FURTHER INFORMATION CONTACT: Francis X. Cameron, Office of the General Counsel, Nuclear Regulatory Commission, telephone 301-415-1642, e-mail: fxc@nrc.gov.

SUPPLEMENTARY INFORMATION: On page 29460, in the third column, in Footnote 3, the 21st line, insert the word “or” after “application”.

Dated at Rockville, Maryland, this 14th day of June 2001.
For the Nuclear Regulatory Commission.
Alzonia W. Shepard,
Acting Chief, Rules and Directives Branch, Division of Administrative Services, Office of Administration.

[FR Doc. 01-15473 Filed 6-19-01; 8:45 am]

BILLING CODE 7590-01-P